DEPARTMENT OF THE INTERIOR

Fish and Wildlife Service

Information Collection Renewal To Be Submitted to the Office of Management and Budget for Approval Under the Paperwork Reduction Act (PRA); Federal Aid Grant Application Booklet

AGENCY: Fish and Wildlife Service, Interior.

ACTION: Notice; request for comments.

SUMMARY: The U.S. Fish and Wildlife Service (We) will submit the collection of information described below to the Office of Management and Budget (OMB) for approval under the provisions of the Paperwork Reduction Act of 1995. You may obtain copies of the collection requirement, related forms, or explanatory material by contacting the person listed below under FOR FURTHER INFORMATION CONTACT.

DATES: Interested parties must submit comments on or before December 1, 2003.

ADDRESSES: Interested parties should send comments on the information collection by mail to Information Collection Officer, U.S. Fish and Wildlife Service, 4401 North Fairfax Drive, Suite 222, Arlington, VA 22203; by fax to (703) 358-2269; or by e-mail to Anissa Craghead@fws.gov.

FOR FURTHER INFORMATION CONTACT: Kim Galvan, voice (703) 358-2420, fax (703) 358-1837, or e-mail kgalvan@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)). An agency may not conduct or sponsor, and a person is not required to respond to, a collection of information unless it displays a currently valid OMB control number.

We will submit a request to OMB to renew its approval of the collection of information associated with the Federal Aid Grant Application Booklet. The Federal Aid Grant Application Booklet offers the public information on how to apply for certain Federal grants. This information collection is authorized by the Federal Aid in Sport Fish Restoration Act (16 U.S.C. 777-777l), Federal Aid in Wildlife Restoration Act (16 U.S.C. 669-669i), Partnerships for Wildlife Act (16 U.S.C. 3741), and the Coastal Wetlands Planning, Protection and Restoration Act (16 U.S.C. 3954). This information collection covers the following types of grant programs: Sport Fish Restoration, Wildlife Restoration, Coastal Wetland Restoration, Clean Vessel, Boating Infrastructure, and Partnerships for Wildlife and Endangered Species. We collect information relevant to eligibility, substantiality, relative value, and budget information from applicants in order to make awards of grants under these programs. We also collect financial and performance information to track costs and accomplishments of these grant programs. We need the information collected to support the grant work of our Division of Federal Assistance. In this renewal request, we plan to make minimal changes to the booklet to make it easier for the public to understand and use.

The current OMB control number for this information collection is 1018-0109, and the OMB approval for this collection expires on January 31, 2004. We are requesting a three-year term of approval for this information collection activity.

Title: Federal Aid Grant Application Booklet.

OMB Control Number: 1018-0109.

Frequency of Collection: Annually.

Description of Respondents: The 50 U.S. States, the Commonwealth of Puerto Rico, the District of Columbia, the Commonwealth of the Northern Mariana Islands, Guam, the Virgin Islands, American Samoa, Indian Tribal Governments, and not-for-profit institutions.

Annual Burden Estimates:

Name | Completion time per form | Total annual number of responses | Total annual burden hours
Initial Proposal | 80 hours | 4,000 | 320,000
Amendment | 2 hours | 1,750 | 3,500
Totals |  | 5,750 | 323,500

We invite comments on: (1) Whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Dated: September 17, 2003.
Anissa Craghead,
Service Information Collection Officer.

[FR Doc. 03-24798 Filed 9-30-03; 8:45 am]

BILLING CODE 4310-55-P